DEPARTMENT OF VETERANS AFFAIRS

Privacy Act of 1974; System of Records

AGENCY: Department of Veterans Affairs (VA)

ACTION: Report of New System of Records—Program Evaluation Research Data Records—VA.

SUMMARY: The Privacy Act of 1974 (5 U.S.C. 552(e)(4)) requires that all agencies publish in the Federal Register a notice of the existence and character of their systems of records. Notice is hereby given that the Department of Veterans Affairs is establishing a system of records entitled “Program Evaluation Research Data Management Records—VA” (107VA008B). VA is establishing the system to support data collection, storage and analysis to conduct agency program evaluations undertaken under the authority of 38 U.S.C. 527 as described in 38 CFR Section 1.15.

DATES: Comments on the establishment of this system of records must be received no later than July 2, 2001. If no public comment is received, the new system will become effective July 2, 2001.

ADDRESSES: Submit written comments to the Director, Office of Regulations Management (02D), Department of Veterans Affairs, 810 Vermont Avenue, NW, Washington, DC 20420. Comments will be available for public inspection at the above address in the Office of Regulation Management, Room 1158, between 8 a.m. and 4:30 p.m. Monday through Friday, except holidays.

FOR FURTHER INFORMATION CONTACT: Mr. H. Raymond Wilburn, Department of Veterans Affairs, 810 Vermont Avenue NW., Washington, DC 20420, telephone (202) 273-7509.

SUPPLEMENTARY INFORMATION: Background: The purpose of the system of records is to provide a repository for the individually identified and retrieved data about VA beneficiaries, including veterans, survivors, dependents, service persons, and reservists, and individuals eligible for VA benefits to perform program evaluations as described in 38 CFR 1.15. Within VA, most program evaluations are conducted through contracts to enhance third-party objectivity; thus, much of the data collected is through the research activities of contractors. The records include information provided by program beneficiaries, persons eligible for but not using VA programs, VA program files from the Veterans Health Administration (VHA), Veterans Benefit Administration (VBA), National Cemetery Administration (NCA), and other organizations within VA, relevant data published by other Federal agencies, and information obtained in the course of routine work. Quality assurance information that is protected by 38 U.S.C. 5705 and 38 CFR 17.500-17.511 is not included in this system of records.

It is VA's policy that the data and information collected be used to evaluate the various programs within the Department. Data and information may also be used for longitudinal research purposes and follow-up to evaluate the long-term effects of program usage, although VA currently has no plans to do so.

This data and information may also be disclosed to:

1. The appropriate Federal, State, local, or foreign agency charged with the responsibility of investigating violations of civil or criminal law or regulations arising by statute, regulation, rule, or order;

2. A Congressional office from the record of an individual in response to an inquiry;

3. The National Archives and Records Administration (NARA) in records management inspections;

4. The Department of Justice and United States attorneys in defense or prosecution of litigation involving the United States;

5. A Federal department or agency; or

6. Directly to a contractor or subcontractor of a Federal department or agency for the purpose of conducting research. When disclosure of this data or information is made directly to a contractor, VA may impose applicable conditions on the department, agency, and/or contractor to insure the appropriateness of the disclosure to the contractor.

The notice of intent to publish and an advance copy of the system notice have been sent to the appropriate Congressional committees and to the Director, Office of Management and Budget (OMB) as required by 5 U.S.C. 552a(r) (Privacy Act) and guidelines issued by OMB (65 FR 77677), December 12, 2000.

Approved: May 15, 2001.
Anthony J. Principi,
Secretary of Veterans Affairs.

107VA008B

System Name:

Program Evaluation Research Data Records—VA

System Location:

Records are maintained at VA Central Office, Office of Policy and Planning (008B), 810 Vermont Avenue, NW., Washington, DC 20420, and in the custody of contractors or subcontractors of VA.

Categories of individuals covered by the system:

The records include information concerning program beneficiaries, individuals eligible for benefits, applicants for benefits, and members of their immediate families.

Categories of records in the system:

The records may include information related to:

1. Medical (such as diagnoses, prescriptions, and patient visits) and non-medical benefits program usage records and reports of contact about program benefits usage with individuals or groups.

2. Data on beneficiary, eligible, and applicant demographics, including identifying information (such as name, date of birth, age, sex, social security number, taxpayer identification number); address information (for example, home and/or mailing address, home telephone number, emergency contact information such as name, address, telephone number, and relationship); information related to training, education, and continuing education (for example, name and address of schools and dates of attendance, courses attended and scheduled to attend, type of degree, certificate, grades); information related to military service and status; technical skills acquired, employment information, and income.

3. Any other statistical data regarding the interaction and/or participation of VA beneficiaries, eligibles, and applicants in VA programs.

To the extent that records contained in the system include information protected by 38 U.S.C. 7332 (such as medical treatment information related to drug abuse, alcoholism or alcohol abuse, sickle cell anemia or infection with the human immunodeficiency virus), that information cannot be disclosed under a routine use unless there is also specific statutory authority permitting disclosure.

Authority for maintenance of the system:

Title 38, United States Code, section 527 (b).

Purpose(s):

VA collects and maintains the records in this system of records to evaluate on a continuing basis the effectiveness of all programs authorized under Title 38 U.S.C., in achieving program goals in general, including achieving such goals in relation to their cost, and their structure and mechanisms for delivery of services, as well as their effect on related programs. Data may also be used for longitudinal research purposes and follow-up to evaluate the long-term effects of program usage.

Routine uses of records maintained in the system, including categories of users and the purposes of such uses:

Data and information may be disclosed for routine uses as indicated below:

1. In the event that a record maintained by VA to carry out its functions indicates a violation or potential violation of civil or criminal law or regulations arising by general statute or particular program statute, regulation, rule, or order, information may be disclosed at VA's own initiative to the appropriate Federal, State, local, or foreign agency charged with the responsibility of investigating or prosecuting such violation or charged with enforcing or implementing the statute or rule, regulation, or order. However, names and addresses of veterans and their dependents will be released only to federal entities.

2. Disclosure may be made to a Congressional office from the record of an individual in response to an inquiry from the Congressional office made at the request of that individual.

3. Disclosure may be made to the National Archives and Records Administration (NARA) in records management inspections conducted under authority of 44 U.S.C.

4. Disclosure may be made to the Department of Justice and United States attorneys in defense or prosecution of litigation involving the United States.

5. Disclosure of name(s) and address(es) of present or former personnel of the Armed Services and/or their dependents may be made to: (a) A Federal department or agency, at the written request of the head or designee of that agency or (b) directly to a contractor or subcontractor of a Federal department or agency for the purpose of conducting Federal research necessary to accomplish a statutory purpose of an agency.

6. Disclosure may be made to individuals, organizations, private or public agencies, etc., with whom VA has a contract or agreement to perform such services as VA may deem practicable for the purposes of laws administered by VA, in order for the contractor or subcontractor to perform the services of the contract or agreement.

Policies and practices for storing, retrieving, accessing, retaining, and disposing of records in the system:

Storage:

Records are maintained on paper, microfilm, magnetic tape, disk, or laser optical media.

Retrievability:

Records are retrieved by name, social security number, or other assigned identifiers of the individuals on whom they are maintained.

Safeguards:

1. Access to VA working and storage areas is restricted to VA employees on a “need-to-know” basis; strict control measures are enforced to ensure that disclosure to these individuals is also based on this same principle. Scrambling algorithms are used to protect unique personal identifiers such as social security numbers. Generally, VA file areas are locked after normal duty hours and the facilities are protected from outside access by the Federal Protective Service or other security personnel.

2. Access to electronic files stored in personal computers is limited to only that information in the file which is needed in the performance of employees' official duties through use of individually unique passwords. Access by Office of Inspector General (OIG) staff conducting an audit or investigation is controlled in the same manner. Access to paper documents and information on automated storage media is limited to employees who have a need for the information in the performance of their official duties.

3. Contractors and subcontractors are required to maintain the same level of security as VA for records in their custody.

Retention and disposal:

Paper records and information stored on electronic storage media are maintained and disposed of in accordance with records disposition authority approved by the Archivist of the United States.

System manager(S) and address:

Official responsible for policies and procedures: Director, Program Evaluation Service, Office of Policy and Planning (008B), Department of Veterans Affairs, 810 Vermont Avenue, NW, Washington, DC 20420. Officials maintaining the system: Program Evaluation staff (008B) and supporting contractors.

Notification procedure:

Individuals who wish to determine whether this system of records contains information about them should contact the system manager. Inquiries should include the person's full name, social security number, date(s) of contact, and return address.

Record access procedureS:

Individuals seeking information regarding access to and contesting of records in this system may write, call or visit the Office of Policy and Planning (008B), VA Central Office, 810 Vermont Avenue, NW, Washington, DC 20420.

Contesting record procedures:

(See Record Access Procedures above.)

Record source categories:

Information in this system of records is provided by the individual or guardian, other Federal agencies, or VA program operation files from the Veterans Health Administration (VHA), Veterans Benefits Administration (VBA), National Cemetery Administration (NCA), and other organizations within VA.

[FR Doc. 01-13625 Filed 5-30-01; 8:45 am]

BILLING CODE 8320-01-P